DEPARTMENT OF COMMERCE

National Oceanic and Atmospheric Administration

RIN 0648-XA414

Mid-Atlantic Fishery Management Council (MAFMC); Public Meeting

AGENCY: National Marine Fisheries Service (NMFS), National Oceanic and Atmospheric Administration (NOAA), Commerce.

ACTION: Notice of a public meeting.

SUMMARY: The Scientific and Statistical Committee (SSC) of the Mid-Atlantic Fishery Management Council (Council) Meeting.

DATES: The meeting will be held Wednesday, May 25, 2011 from 9 a.m. until 5 p.m. and Thursday, May 26, 2011 from 8 a.m. until 12 p.m.

ADDRESSES: The meeting will be held at the Admiral Fell Inn, 888 South Broadway, Baltimore, MD 21231; telephone: (410) 522-7377.

Council address: Mid-Atlantic Fishery Management Council, 800 N. State Street, Suite 201, Dover, DE 19901; telephone: (302) 674-2331.

FOR FURTHER INFORMATION CONTACT: Christopher M. Moore PhD, Executive Director, Mid-Atlantic Fishery Management Council, 800 N. State Street, Suite 201, Dover, DE 19901; telephone: (302) 526-5255.

SUPPLEMENTARY INFORMATION: The primary purpose of the meeting is to develop ABC recommendations for the Council for Atlantic mackerel, butterfish, Loligo and Illex Squids for 2012 (potentially multi-year specifications for some species). In addition, an update on activities relevant to the SSC will be given including (but not limited to): AP Performance Report, Ecosystem Subcommittee activities, 2011 National SSC Workshop program development, University of Maryland MSE Study, Surfclam Ocean Quahog Excessive Share Project, and ACL/AM Working Group recommendations.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: May 3, 2011.
Tracey L. Thompson,
Acting Director, Office of Sustainable Fisheries, National Marine Fisheries Service.

[FR Doc. 2011-11103 Filed 5-5-11; 8:45 am]

BILLING CODE 3510-22-P